DEPARTMENT OF THE INTERIOR

National Park Service

General Management Plan/Environmental Impact Statement, Canyon De Chelly National Monument, Arizona

AGENCY: National Park Service, Department of the Interior.

ACTION: Notice of Intent to prepare an environmental impact statement for the general management plan, Canyon De Chelly National Monument.

SUMMARY: Under the provisions of the National Environmental Policy Act, the National Park Service is preparing an environmental impact statement for the general management plan for Canyon De Chelly National Monument. The environmental impact statement will be approved by the Director, Intermountain Region.

Canyon de Chelly National Monument is in Apache County, Arizona, on the Navajo Reservation. The monument was authorized by Congress on February 14, 1931, following approval of the monument by the Navajo Tribal Council. Congress charged the National Park Service with the “* * * care, maintenance, preservation, and restoration of the prehistoric ruins, or other features of scientific or historical interest.” The National Park Service was also given the right to provide improvements for the “* * *. administration and protection of the monument * * *,” and for the “* * *. care and accommodation of visitors.”

The general management plan will prescribe the resource conditions, visitor experiences, and the nature of the relationship with the Navajo Nation and canyon community that are to be achieved and maintained in the monument over the next 15 to 20 years. The clarification of what must be achieved according to law and policy will be based on review of the monument's purpose, significance, special mandates, and the body of laws and policies directing monument management. Management decisions to be made where law, policy, or regulations do not provide clear guidance or limits will be based on the purposes of the monument, the range of public expectations and concerns, resource analysis, an evaluation of the natural, cultural, and social impacts of alternative courses of action, and consideration of long-term economic costs. Based on determinations of desired conditions, the general management plan will outline the kinds of resource management activities, visitor activities, and development that would be appropriate in the monument in the future. Alternatives will be developed through this planning process and will include, at a minimum, no-action and the preferred alternative.

Major issues include protection of natural and cultural resources; the adequacy of interpretive programs; and potential partnerships with the Navajo Nation and associated American Indian communities, as well as other agencies, organizations, and local interests.

DATES: The National Park Service will conduct public scoping for 60 days from the date of publication of this notice in the Federal Register. Open house meetings regarding the general management plan will be held during the public scoping period. Specific dates, times, and locations will be announced in the local media and will also be available by contacting the Superintendent of Canyon De Chelly National Monument.

ADDRESSES: Throughout the scoping and planning process information will be available for public review and comment in the office of the superintendent (Scott Travis, Canyon De Chelly National Monument, PO Box 588, Chinle, AZ 86503).

FOR FURTHER INFORMATION CONTACT: Superintendent Scott Travis, Canyon De Chelly National Monument, PO Box 588, Chinle, AZ 86503; Tel: (928) 674-5500; FAX: (928) 674-5507; e-mail: scott_travis@nps.gov.

SUPPLEMENTARY INFORMATION: If you wish to comment on the general management planning process for Canyon de Chelly National Monument, or on any issues associated with the plan, you may submit your comments by any one of several methods. You may mail comments to Superintendent Scott Travis, Canyon de Chelly National Monument, PO Box 588, Chinle, AZ 86503. You may also e-mail comments to scott_travis@nps.gov. Finally, you may hand-deliver comments to the Canyon de Chelly National Monument visitor center (3 miles east of Chinle, Arizona on Highway 7). Our practice is to make comments, including names and home addresses of respondents, available for public review during regular business hours. Individual respondents may request that we withhold their home address from the record, which we will honor to the extent allowable by law. There also may be circumstances in which we would withhold from the record a respondent's identity, as allowable by law. If you wish us to withhold your address, you must state this prominently at the beginning of your comment. We will make all submissions from organizations or businesses, and from individuals identifying themselves as representatives or officials of organizations or businesses, available for public inspection in their entirety.

Dated: January 22, 2003.
Karen P. Wade,
Director, Intermountain Region.

[FR Doc. 03-6207 Filed 3-13-03; 8:45 am]

BILLING CODE 4310-70-P